ELECTION ASSISTANCE COMMISSION

Agency Information Collection Activities: Proposed Collection; Comment Request

AGENCY: Election Assistance Commission (EAC).

ACTION: Notice and request for comments.

SUMMARY: The EAC, as part of its continuing effort to reduce paperwork and respondent burden in accordance with the Paperwork Reduction Act of 1995, invites the general public and other Federal agencies to take this opportunity to comment on a proposed information collection. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarized and/or included in the request for OMB approval of this information collection; they also will become a matter of public record.

DATES: Written comments must be submitted on or before March 24, 2007.

ADDRESSES: Submit comments and recommendations on the proposed information collection in writing to the U.S. Election Assistance Commission, 1225 New York Avenue, NW., Suite 1100, Washington, DC 20005, ATTN: Brian Hancock, Director of Voting System Certification; or via fax to 202-566-1392.

FOR FURTHER INFORMATION CONTACT: To request more information on this proposed information collection or to obtain a copy of the EAC Voting System Testing and Certification Program Manual, please, write to the above address or call Brian Hancock, Director of Voting System Certification, 1225 New York Avenue, Suite 1100, Washington, DC, (202) 566-3100; Fax: (202) 566-1392. You may also view the proposed collection instrument by visiting the EAC Web site at http://www.eac.gov.

SUPPLEMENTARY INFORMATION: Title: EAC Voting System Testing and Certification Program Manual.

OMB Number: 3265-0004.

Type of Review: Extension with revisions of a currently approved collection.

Needs and Uses: HAVA requires that the EAC certify and decertify voting systems (42 U.S.C. 15371). Section 231(a)(1) of HAVA specifically requires to EAC to “* * * provide for the certification, decertification and recertification of voting system hardware and software by accredited laboratories.” The EAC will perform this mandated function through the use of its Voting System Testing and Certification Program. Voting systems certified by the EAC will be used by citizens to cast votes in Federal Elections. Therefore, it is paramount that the program operates in a reliable and effective manner. In order to certify a voting system, it is necessary for the EAC to (1) Require voting system manufacturers to submit information about their organization and the voting systems they submit for testing and certification; (2) require voting system manufacturers to retain voting system technical and test records; and (3) to provide a mechanism for election officials to report events which may effect a voting system's certification.

Affected Public: Business or other for-profit institutions and state and local election officials.

Estimated Number of Respondents: 94 annually.

Total Annual Responses: 99 annually.

Estimated Total Annual Burden Hours: 119 hours.

Thomas R. Wilkey,
Executive Director, U.S. Election Assistance Commission.

[FR Doc. 07-290 Filed 1-23-07; 8:45 am]

BILLING CODE 6820-KF-M